DEPARTMENT OF THE INTERIOR

National Park Service

[NPS-NER-HPPC-0317-6990; 4780-NERI-409]

General Management Plan/Abbreviated Final Environmental Impact Statement, New River Gorge National River, West Virginia

AGENCY: National Park Service, Department of the Interior.

ACTION: Notice of Availability.

SUMMARY: The National Park Service (NPS) announces the availability of the Abbreviated Final Environmental Impact Statement for the General Management Plan (GMP/EIS) for New River Gorge National River, West Virginia. When approved, the plan will provide guidance to park management for administration, development, and interpretation of park resources over the next 20 years.

The Abbreviated Final GMP/EIS includes an analysis of agency and public comments received on the Draft GMP/EIS with NPS responses, errata sheets detailing editorial corrections to the Draft GMP/EIS, and copies of agency and substantive public comments. Action Alternative Five, as described in the Draft GMP/EIS, remains the NPS Preferred Alternative.

DATES: The NPS will execute a Record of Decision (ROD) no sooner than 30 days after the date of publication by the Environmental Protection Agency of a Notice of Availability of the Abbreviated Final GMP/EIS in the Federal Register.

ADDRESSES: The Abbreviated Final GMP/EIS is available online at the NPS Planning, Environment and Public Comment (PEPC) Web site (http://parkplanning.nps.gov/neri). Hardcopies of the document are available for inspection at the Park Headquarters in Glen Jean, West Virginia. Requests for a hard copy may be made by contacting the park at (304) 465-6526.

FOR FURTHER INFORMATION CONTACT: Don Striker, Superintendent, New River Gorge National River, P.O. Box 246, Glen Jean, West Virginia 25846, (304) 465-0508.

SUPPLEMENTARY INFORMATION: Consistent with Federal laws, regulations, and National Park Service policies, the Draft GMP/EIS was available for public and agency review from January 13, 2010, through April 16, 2010. Copies of the Draft GMP/EIS were available at the park office, by request, and on the NPS Planning, Environment, and Public Comment (PEPC) Web site (http://parkplanning.nps.gov/neri). Public open houses were held on March 9, 10, and 11, 2010 in Hinton, Beckley, and Fayetteville, WV, respectively. The Draft GMP/EIS described and analyzed the environmental impact of five alternatives to guide the development and future management of the National River. Alternative 1 would continue current management and trends. Alternative 2 would emphasize the substantial differences among subareas of the gorge and would build upon the opportunities of the north and south ends of the park, while retaining a primitive and remote feeling in the middle of the park. Alternative 3 would unify the park by providing a north-south through-park hike-and-bike trail, enhancing existing scenic roads, and building new access and facilities in the middle of the park. Alternative 4 would enhance the river gateways and the rim to river experiences at these primary access points and orientation venues. Alternative 5 would preserve areas for primitive recreational experiences from end to end of the park and would intersperse cultural and interpretive resource focal areas, establish a north-south through-park connector of scenic roads and trails, develop partnerships with gateway communities, and improve rim to river experiences. The Abbreviated Final GMP/EIS responds to, and incorporates, agency and public comments received on the Draft GMP/EIS. An abbreviated format was used because comments received during the public review period required only minor responses and editorial changes to the Draft GMP/EIS. The abbreviated format also allows the NPS to produce a simple brief document and avoid costly reprinting of the entire 900-page document. No changes have been made to the alternatives or to the impact analyses presented in the Draft GMP/EIS. Therefore, Action Alternative Five remains as the NPS Preferred Alternative and the environmentally preferred alternative.

The public release of the Abbreviated Final GMP/EIS will be followed by a no-action period that will end no sooner than 30 days from the date of publication by the Environmental Protection Agency of a Notice of Availability of the Abbreviated Final GMP/EIS in the Federal Register. After the 30-day no action period, a Record of Decision will be prepared to document the selected alternative and set forth any stipulations for implementation of the GMP. The Abbreviated Final GMP/EIS and the Draft GMP/EIS constitute the complete and final documentation upon which the Record of Decision will be based.

Dennis R. Reidenbach,
Regional Director, Northeast Region, National Park Service.

[FR Doc. 2011-25791 Filed 10-5-11; 8:45 am]

BILLING CODE 4310-YP-P